DEPARTMENT OF THE INTERIOR

Fish and Wildlife Service

[FWS-R1-R-2011-N081; 1265-0000-10137-S3]

Conboy Lake and Toppenish National Wildlife Refuges, WA; Comprehensive Conservation Plan and Environmental Assessment

AGENCY: Fish and Wildlife Service, Interior.

ACTION: Notice of intent; request for comments.

SUMMARY: We, the U.S. Fish and Wildlife Service (Service), intend to prepare a comprehensive conservation plan (CCP) and environmental assessment (EA) for the Conboy Lake National Wildlife Refuge (refuge, NWR), located in Klickitat County, Washington, and the Toppenish National Wildlife Refuge, located in Yakima County, Washington. We provide this notice in compliance with our CCP policy to advise other Federal and State agencies, Tribes, and the public of our intentions and to obtain suggestions and information on the scope of issues to consider in the planning process.

DATES: To ensure consideration, please send your written comments by August 12, 2011.

ADDRESSES: Send your comments or requests for more information by any of the following methods:

• E-mail: mcriver@fws.gov. Include “Conboy Lake and Toppenish NWRs CCP” in the subject line of the message.

• Fax: Attn: Dan Haas, Planning Team Leader, (509) 546-8303.

• U.S. Mail: Mid-Columbia River National Wildlife Refuge Complex, Conboy Lake and Toppenish NWRs CCP, 64 Maple Street, Burbank, WA 99323.

• In-Person Drop-off: You may drop off comments during regular business hours at the above address.

FOR FURTHER INFORMATION CONTACT: Shannon Ludwig, Refuge Manager, Conboy Lake and Toppenish National Wildlife Refuges, (509) 865-2405 (phone); Shannon_ludwig@fws.gov (e-mail).

SUPPLEMENTARY INFORMATION:

Introduction

With this notice, we initiate our process for developing a CCP for Conboy Lake NWR, in Klickitat County, Washington, and Toppenish NWR in Yakima County, Washington. This notice complies with our CCP policy to (1) Advise other Federal and State agencies, Tribes, and the public of our intention to conduct detailed planning on these refuges and (2) obtain suggestions and information on the scope of issues to consider in the environmental document and during development of the CCP.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Each unit of the National Wildlife Refuge System was established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. During the CCP planning process, many elements of refuge management will be considered, including wildlife and habitat protection and management and management of visitor services programs. Public input during the planning process is essential. The CCP will describe the refuge purposes and desired conditions for the refuge and the long-term conservation goals, objectives and strategies for fulfilling the purposes and achieving those conditions. At this time we encourage input in the form of issues, concerns, ideas, and suggestions for the future management of Conboy Lake and Toppenish NWRs.

We will conduct the environmental review of this project and develop an EA in accordance with the requirements of the National Environmental Policy Act of 1969, as amended (NEPA) (42 U.S.C. 4321 et seq.); NEPA regulations (40 CFR Parts 1500-1508); other appropriate Federal laws and regulations; and our policies and procedures for compliance with those laws and regulations.

Refuge Overviews

Conboy Lake NWR

Conboy Lake NWR covers approximately 9,100 acres in the transition zone between arid eastern Washington and wet western Washington, near the southern base of Mt. Adams. The refuge is comprised of a wide variety of habitat types, from the lake itself to wet meadows to Ponderosa pine and oak forests. Because of its varied habitats and its location in the transition zone, the refuge supports an abundance of wildlife species.

Conboy Lake NWR was established “for use as an inviolate sanctuary, or for any other management purpose, for migratory birds” (Migratory Bird Conservation Act; 16 U.S.C. 715d) that is “suitable for— (1) Incidental fish and wildlife-oriented recreational development, (2) the protection of natural resources, [and/or] (3) the conservation of endangered species or threatened species” (Refuge Recreation Act; 16 U.S.C. 460k-1), in order “to conserve (A) fish or wildlife which are listed as endangered species or threatened species * * * or (B) plants” (16 U.S.C. 1534, Endangered Species Act of 1973). The refuge also fills an important role in the management of mallards, northern pintails, and tundra swans during migration periods, and is both a migratory stopover area and breeding site for the Pacific Coast population of the greater Sandhill crane. It is located along the Pacific Flyway and has become a particularly important stopover and wintering ground for migratory birds and waterfowl.

Toppenish NWR

Toppenish NWR was also established “for use as an inviolate sanctuary, or for any other management purpose, for migratory birds” (Migratory Bird Conservation Act; 16 U.S.C. 715d) that is “suitable for— (1) Incidental fish and wildlife-oriented recreational development, (2) the protection of natural resources, [and/or] (3) the conservation of endangered species or threatened species” (Refuge Recreation Act; 16 U.S.C. 460k-1), “for the development, advancement, management, conservation, and protection of fish and wildlife resources” (Fish and Wildlife Act of 1956; 16 U.S.C. 742f(a)(4)), in order “to conserve (A) fish or wildlife which are listed as endangered species or threatened species * * * or (B) plants” (16 U.S.C. 1534; Endangered Species Act of 1973). Located in arid eastern Washington, approximately 40 miles north of the Oregon border, most of the refuge's 2,000 acres are nonetheless focused around water. An extensive system of managed and unmanaged wetlands fills an important role in the management of mallards, northern pintails, and lesser Canada geese populations during migration and winter periods. It, too, is located along the Pacific Flyway and has become a particularly important stopover and wintering ground for migratory birds and waterfowl.

Scoping: Preliminary Issues, Concerns, and Opportunities

We have identified preliminary issues, concerns, and opportunities that we may address in the CCP. We have briefly summarized these issues below. During public scoping, we may identify additional issues.

Conboy Lake NWR

Land acquisition/exchanges/conservation agreements; water rights; water management; wet meadow, riparian, and stream habitat management; short-grass management; upland meadow management; forest management; plant species management (e.g., invasive and nonnative plants, rare plants); animal species management (e.g., Oregon spotted frog, sandhill crane, elk); wildlife-dependent use; effective law enforcement; impacts of climate change; staffing.

Toppenish NWR

Wildlife and habitat management; water rights; wetland management; invasive and nonnative species; rare and listed species recovery; impacts of climate change; contaminants and water quality; wildlife-dependent issues; effective law enforcement; staffing.

Public Comments

Opportunities for the public to provide further input will be announced in press releases, planning updates, and on our websites at http://www.fws.gov/mcriver, http://www.fws.gov/conboylake/management.html, and http://www.fws.gov/toppenish/management.html. There will be additional opportunities to provide public input throughout the CCP process.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: June 9, 2011.
Robyn Thorson,
Regional Director, Region 1, Portland, Oregon.

[FR Doc. 2011-17424 Filed 7-12-11; 8:45 am]

BILLING CODE 4310-55-P